DEPARTMENT OF ENERGY

Federal Energy Regulatory Commission

[Docket No. AD18-8-000; Docket No. EL18-26-000]

Reform of Affected System Coordination in the Generator Interconnection Process; EDF Renewable Energy, Inc. v. Midcontinent Independent System Operator, Inc., Southwest Power Pool, Inc., and PJM Interconnection, L.L.C.; Notice of Technical Conference

Take notice that the Federal Energy Regulatory Commission (Commission) will convene a staff-led technical conference in the above-referenced proceeding on Tuesday and Wednesday, April 3-4, 2018 from 9:30 a.m. to 4:30 p.m. (EDT). The conference will be held in the Commission Meeting Room at Commission headquarters, 888 First Street NE, Washington, DC 20426. Commissioners may attend and participate.

The purpose of this conference is to discuss issues related to the coordination of Affected Systems raised in (1) the complaint filed by EDF Renewable Energy, Inc. against Midcontinent Independent System Operator, Inc., Southwest Power Pool, Inc., and PJM Interconnection, L.L.C. in Docket No. EL18-26-000 and (2) the Commission's Notice of Proposed Rulemaking on the generator interconnection process in Docket No. RM17-8-000.

Discussions at the conference may involve issues raised in proceedings that are currently pending before the Commission. These proceedings include, but are not limited to:

Internal MISO Generators v. Midcontinent Independent System Operator, Inc., Docket No. EL15-99-000;

EDF Renewable Energy, Inc. v. Midcontinent Independent System Operator, Inc., Docket No. EL18-55-000; Southwest Power Pool, Inc., Docket No. ER18-421-000;

Midcontinent Independent System Operator, Inc., Docket No. ER18-636-000;

Midcontinent Independent System Operator, Inc., Docket No. ER16-1346-003;

Midcontinent Independent System Operator, Inc., Docket No. ER16-1817-004;

Midcontinent Independent System Operator, Inc., Docket No. EL18-17-000;

Midcontinent Independent System Operator, Inc., Docket No. ER17-156-002; and

TranSource, LLC v. PJM Interconnection, L.L.C., Docket No. EL15-79-001.

Additional information regarding the conference program and speakers will be provided in subsequent supplemental notices of technical conference.

Those wishing to participate in this conference should submit a nomination form online by 5:00 p.m. on March 2, 2018 at: http://www.ferc.gov/whats-new/registration/04-03-18-speaker-form.asp. There is no fee for attendance. In-person attendees should allow time to pass through building security procedures before the 9:30 a.m. start time of the technical conference. Pre-registration is encouraged, though not required. Attendees may register in advance at the following web page: http://www.ferc.gov/whats-new/registration/04-03-18-form.asp

The conference will be transcribed and webcast. Transcripts will be available immediately for a fee from Ace Reporting (202-347-3700). A link to the webcast of this event will be available in the Commission Calendar of Events at www.ferc.gov. The Capitol Connection provides technical support for the webcasts and offers the option of listening to the conferences via phone-bridge for a fee. For additional information, visit www.CapitolConnection.org or call (703) 993-3100.

Commission conferences are accessible under section 508 of the Rehabilitation Act of 1973. For accessibility accommodations, please send an email to accessibility@ferc.gov or call toll free 1-866-208-3372 (voice) or 202-208-8659 (TTY), or send a fax to 202-208-2106 with the required accommodations.

For more information about this technical conference, please contact Lina Naik at Lina.Naik@ferc.gov or (202) 502-8882, Myra Sinnott at Myra.Sinnott@ferc.gov or (202) 502-6033, or Kathleen Ratcliff at Kathleen.Ratcliff@ferc.gov or (202) 502-8018. For information related to logistics, please contact Sarah McKinley at Sarah.Mckinley@ferc.gov or (202) 502-8368.

Dated: February 2, 2018.
Kimberly D. Bose,
Secretary.

[FR Doc. 2018-02530 Filed 2-7-18; 8:45 am]

BILLING CODE 6717-01-P